DEPARTMENT OF HEALTH AND HUMAN SERVICES

Health Care Financing Administration

Privacy Act of 1974; Computer Matching Program (Match Number 2001-04)

AGENCY: Department of Health and Human Services (HHS), Health Care Financing Administration (HCFA).

ACTION: Notice of Computer Matching Program (CMP).

SUMMARY: In accordance with the requirements of the Privacy Act of 1974, as amended, this notice announces a CMP agreement that HCFA plans to conduct with the Department of Defense (DOD). We have provided background information about the proposed matching program in the Supplementary Information section below. Although the Privacy Act requires only that HCFA provide an opportunity for interested persons to comment on the CMP, HCFA invites comments on all portions of this notice. See Effective Dates section below for comment period.

EFFECTIVE DATES: HCFA filed a report of the CMP with the Chair of the House Committee on Government Reform and Oversight, the Chair of the Senate Committee on Governmental Affairs, and the Administrator, Office of Information and Regulatory Affairs, Office of Management and Budget (OMB) on May 16, 2001. We will not disclose any information under a matching agreement until 40 days after filing a report to OMB and Congress or 30 days after publication. We may defer implementation of this matching program if we receive comments that persuade us to do so.

ADDRESS: The public should address comments to: Director, Division of Data Liaison and Distribution (DDLD), HCFA, Mailstop N2-04-27, 7500 Security Boulevard, Baltimore, Maryland 21244-1850. Comments received will be available for review at this location, by appointment, during hours specified, Monday through Friday from 9 a.m.-3 p.m., Eastern Time zone.

FOR FURTHER INFORMATION CONTACT: Maribel Franey, Health Insurance Specialist, Division of Data Liaison and Distribution, Enterprise Database Group, Office of Information Services, HCFA, Mailstop N2-04-27, 7500 Security Boulevard, Baltimore, Maryland 21244-1850. The telephone number is (410) 786-0757 or facsimile (410) 786-5636. The e-mail address is mfraney@hcfa.gov.

SUPPLEMENTARY INFORMATION:

I. Description of the Matching Program

A. General

The Computer Matching and Privacy Protection Act (CMPPA) of 1988 (Public Law (Pub. L.) 100-503), amended the Privacy Act (5 U.S.C. 552a) by describing the manner in which computer matching involving Federal agencies could be performed and added certain protections for individuals applying for and receiving Federal benefits. Section 7201 of the Omnibus Budget Reconciliation Act of 1990 (Pub. L. 100-508) further amended the Privacy Act regarding protections for such individuals. The Privacy Act, as amended, regulates the use of computer matching by Federal agencies when records in a system of records are matched with other Federal, state, or local government records. It requires Federal agencies involved in CMPs:

1. Negotiate written agreements with the other agencies participating in matching programs;

2. Obtain the Data Integrity Board's (DIB) approval of the match agreement;

3. Furnish detailed reports about matching programs to Congress and OMB;

4. Notify applicants and beneficiaries that the records are subject to matching; and

5. Verify match findings before reducing, suspending, terminating, or denying an individual's benefits or payments.

B. HCFA Computer Matches Subject to the Privacy Act

HCFA has taken action to ensure that all of the computer match programs that this agency participates in comply with the requirements of the Privacy Act of 1974, as amended.

Michael McMullan,
Acting Deputy Administrator, Health Care Financing Administration.

Computer Match No. 2001-04

NAME:

Verification of TRICARE Eligibility.

Security Classification:

Level Three Privacy Act Sensitive.

Participating Agencies:

The Health Care Financing Administration (HCFA); and the Department of Defense (DOD).

Authority for Conducting Matching Program:

The Computer Matching Agreement is executed to comply with the Privacy Act of 1974 (5 U.S.C. 552a), as amended, the Office of Management and Budget (OMB) Circular A-130, titled “Management of Federal Information Resources” (61 FR 6435, February 20, 1996), and OMB guidelines pertaining to computer matching (54 FR 25818, June 19, 1989).

This agreement provides for information matching necessary to implement the information provisions of the National Defense Authorization Act (NDAA) 2001 (Pub. L. 106-398) sections 711 and 712; the NDAA for fiscal year (FY) 1993 (Pub. L. 102-484) section 705, and the NDAA for FY 1992 (Pub. L. 102-190) sections 704 and 713.

Purpose(s) of the Matching Program:

The purpose of this agreement is to establish the conditions, safeguards, and procedures under which the Health Care Financing Administration (HCFA) will disclose Medicare enrollment information to the Department of Defense (DOD), Defense Manpower Data Center (DMDC), Defense Enrollment and Eligibility Reporting System Office (DEERS), and the Office of the Assistant Secretary of Defense (Health Affairs)/TRICARE Management Activity (TMA). This disclosure will provide TMA with the information necessary to determine if an individual is eligible to receive extended TRICARE coverage.

Current law requires TMA to provide health care and medical benefits to Medicare—Part A eligible beneficiaries who are enrolled in the medical insurance program under Part B of the Medicare program. In order for TMA to meet these requirements, HCFA agrees to disclose Part A entitlement and Part B enrollment data on this dual-eligible population, which will be used to determine a beneficiary's eligibility for care under TRICARE. DEERS will receive the results of the computer match and provide the information to TMA for use in its program.

Categories of Records and Individuals Covered by the Match:

DEERS will furnish HCFA with an electronic file on a monthly basis extracted from DEERS system of records identified as S322.50, entitled “Defense Eligibility Records (DER),” containing social security numbers (SSNs) and date of birth for all DOD-eligible beneficiaries who may also be eligible for Medicare benefits. HCFA will match the DEERS file against its “Enrollment Database (EDB)” system of records (formerly known as the Health Insurance Master Record), System No. 09-70-0502, and will validate the identification of the beneficiary by providing the Health Insurance Claim Number (HICN) that matches against the SSN and date of birth provided by DEERS. The HICN uniquely identifies a Medicare eligible individual. Since Medicare remains the primary payer for many retiree health services, TRICARE will need this information to determine when Medicare has already paid for retiree benefits, so that TRICARE only pays when appropriate. HCFA will also provide the Medicare Part A entitlement and Part B enrollment status of the beneficiary. HCFA's data will help TMA to determine a beneficiary's eligibility for care under TRICARE. DEERS will receive the results of the computer match and provide the information provided in the reply file to TMA for use in its program.

Inclusive Dates of the Match:

The matching program shall become effective no sooner than 40 days after the report of the matching program is sent to OMB and Congress, or 30 days after publication in the Federal Register, whichever is later. The matching program will continue for 18 months from the effective date and may be extended for an additional 12 months thereafter, if certain conditions are met.

[FR Doc. 01-12763 Filed 5-21-01; 8:45 am]

BILLING CODE 4120-03-P